ENVIRONMENTAL PROTECTION AGENCY

[NM-46-1-7605; FRL-7540-1]

Adequacy Status of Submitted State Implementation Plans (SIP) for Transportation Conformity Purposes: MOBILE6 Motor Vehicle Emissions Budgets for the Albuquerque Carbon Monoxide Maintenance Area

AGENCY: Environmental Protection Agency (EPA).

ACTION: Notice of adequacy.

SUMMARY: In this notice, EPA is notifying the public that we have found the on-road motor vehicle emissions budget contained in the revision to the Albuquerque Carbon Monoxide Maintenance Plan adequate for transportation conformity purposes. As a result of our finding, the budgets from the submitted attainment demonstration SIP revision must be used for future conformity determinations in the Albuquerque area.

DATES: These budgets are effective August 21, 2003.

FOR FURTHER INFORMATION CONTACT: The essential information in this notice will be available at EPA's conformity Web site: http://www.epa.gov/oms/transp/conform/adequacy.htm. You may also contact Ms. Peggy Wade, Air Planning Section (6PD-L), U.S. EPA Region 6, 1445 Ross Avenue, Dallas, Texas 75202-2733, telephone (214)665-7247, E-mail address: Wade.Peggy@epa.gov.

SUPPLEMENTARY INFORMATION: Throughout this document “we,” “us,” and “our” refer to EPA. The word “budget(s)” refers to the mobile source emissions budget for carbon monoxide (CO). The word “SIP” in this document refers to the State Implementation Plan revision submitted to satisfy the commitment of the City of Albuquerque to revise its mobile source budgets for the Albuquerque maintenance area with MOBILE6. (MOBILE6 is the most recent emissions factor model, released by EPA on January 29, 2001.)

On May 15, 2003, we received the MOBILE6 SIP revision for the Albuquerque carbon monoxide maintenance area. The revised carbon monoxide budgets, reported in tons per day (tpd), are as follows:

Year | CO (in tpd)
1996 | 416.31
1999 | 373.05
2002 | 369.53
2005 | 367.28
2006 | 312.65

On May 23, 2003, the availability of these budgets was posted on EPA's Web site for the purpose of soliciting public comments. The comment period closed on June 23, 2003, and we received no comments.

Today's notice is simply an announcement of a finding that we have already made. EPA Region 6 sent a letter to the Albuquerque Environmental Health Department on July 15, 2003, finding that the motor vehicle emissions budgets in the Albuquerque carbon monoxide maintenance area are adequate and must be used for transportation conformity determinations.

Transportation conformity is required by Section 176(c) of the Clean Air Act. EPA's conformity rule, 40 CFR part 93, requires that transportation plans, programs and projects conform to SIPs and establishes the criteria and procedures for determining whether or not they do so. Conformity to a SIP means that transportation activities will not produce new air quality violations, worsen existing violations, or delay timely attainment of the National Ambient Air Quality Standards. The criteria by which EPA determines whether a SIP's motor vehicle emission budgets are adequate for conformity purposes are outlined in 40 CFR 93.118(e)(4). Please note that such an adequacy review is separate from EPA's completeness review, and it should not be used to prejudge EPA's ultimate approval of the SIP. Even if we find a budget adequate, the SIP could later be disapproved.

On March 2, 1999, the DC Circuit Court of Appeals ruled that budgets contained in submitted SIPS cannot be used for conformity determinations unless EPA has affirmatively found the conformity budget adequate. We have described our process for determining the adequacy of submitted SIP budgets in the policy guidance dated May 14, 1999, and titled Conformity Guidance on Implementation of March 2, 1999, Conformity Court Decision. We followed this guidance in making our adequacy determination. You may obtain a copy of this guidance from EPA's conformity Web site or by contacting us at the address above.

Authority: 42 U.S.C. 7401 et seq.

Dated: July 29, 2003.
Lawrence E. Starfield,
Deputy Regional Administrator, Region 6.

[FR Doc. 03-20032 Filed 8-5-03; 8:45 am]

BILLING CODE 6560-50-P